DEPARTMENT OF ENERGY

Federal Energy Regulatory Commission

Combined Notice of Filings #2

Take notice that the Commission received the following electric rate filings:

Docket Numbers: ER19-2716-002; ER19-2717-002; ER20-1398-001; ER20-1399-002; ER21-2886-002; ER22-1878-001; ER22-1885-001.

Applicants: South Portland ESS, LLC, Sanford ESS, LLC, Old Middleboro Road Solar, LLC, Rumford ESS, LLC, Ocean State BTM, LLC Madison ESS, LLC, Madison BTM, LLC.

Description: Notice of Change in Status of Madison BTM, LLC, et al.

Filed Date: 4/28/23.

Accession Number: 20230428-5728.

Comment Date: 5 p.m. ET 5/19/23.

Docket Numbers: ER23-1592-001.

Applicants: PJM Interconnection, L.L.C.

Description: Tariff Amendment: Request to Defer Action-Original WMPA, SA No. 6868; Queue No. AF2-165 to be effective 12/31/9998.

Filed Date: 5/3/23.

Accession Number: 20230503-5071.

Comment Date: 5 p.m. ET 5/24/23.

Docket Numbers: ER23-1813-000; TS23-4-000.

Applicants: Oxbow Solar Farm 1, LLC, Oxbow Solar Farm 1, LLC.

Description: Request for Temporary Tariff Waiver, et al. of Oxbow Solar Farm 1, LLC.

Filed Date: 5/2/23.

Accession Number: 20230502-5213.

Comment Date: 5 p.m. ET 5/23/23.

Docket Numbers: ER23-1814-000.

Applicants: Public Service Company of Colorado.

Description: § 205(d) Rate Filing: 2023-05-02 CSU SISA 744-PSCo 0.0.0—DRAFT to be effective 7/1/2023.

Filed Date: 5/2/23.

Accession Number: 20230502-5212.

Comment Date: 5 p.m. ET 5/23/23.

Docket Numbers: ER23-1815-000.

Applicants: UNITED POWER, INC.

Description: Petition for Limited Waiver of United Power, Inc.

Filed Date: 5/1/23.

Accession Number: 20230501-5568.

Comment Date: 5 p.m. ET 5/22/23.

Docket Numbers: ER23-1816-000.

Applicants: New York Independent System Operator, Inc., New York State Electric & Gas Corporation.

Description: § 205(d) Rate Filing: New York Independent System Operator, Inc. submits tariff filing per 35.13(a)(2)(iii: NYSEG 205 re: Rate Schedule 19 Attachment 1 Formula Rate Protocols and Template to be effective 7/3/2023.

Filed Date: 5/3/23.

Accession Number: 20230503-5038.

Comment Date: 5 p.m. ET 5/24/23.

Docket Numbers: ER23-1817-000.

Applicants: New York Independent System Operator, Inc., New York State Electric & Gas Corporation.

Description: § 205(d) Rate Filing: New York Independent System Operator, Inc. submits tariff filing per 35.13(a)(2)(iii: RG&E 205 re: Rate Schedule 19 Attachment 1 Formula Rate Protocols and Template to be effective 7/3/2023.

Filed Date: 5/3/23.

Accession Number: 20230503-5042.

Comment Date: 5 p.m. ET 5/24/23.

Docket Numbers: ER23-1818-000.

Applicants: PJM Interconnection, L.L.C.

Description: § 205(d) Rate Filing: ISA, SA No. 6881; Queue No. AF2-445A to be effective 4/3/2023.

Filed Date: 5/3/23.

Accession Number: 20230503-5046.

Comment Date: 5 p.m. ET 5/24/23.

Docket Numbers: ER23-1819-000.

Applicants: Southwest Power Pool, Inc.

Description: § 205(d) Rate Filing: 4074 Bowman Wind & Mountrail Wind & Basin SNUFCA to be effective 7/2/2023.

Filed Date: 5/3/23.

Accession Number: 20230503-5048.

Comment Date: 5 p.m. ET 5/24/23.

Docket Numbers: ER23-1820-000.

Applicants: Evergy Kansas Central, Inc., Southwest Power Pool, Inc.

Description: § 205(d) Rate Filing: Evergy Kansas Central, Inc. submits tariff filing per 35.13(a)(2)(iii: Evergy Kansas Central and Evergy Kansas South Regulatory Asset Recovery Filing to be effective 7/1/2023.

Filed Date: 5/3/23.

Accession Number: 20230503-5076.

Comment Date: 5 p.m. ET 5/24/23.

Docket Numbers: ER23-1821-000.

Applicants: PJM Interconnection, L.L.C.

Description: § 205(d) Rate Filing: Amendment to WMPA, Service Agreement No. 5589; Queue No. AE2-115 to be effective 7/3/2023.

Filed Date: 5/3/23.

Accession Number: 20230503-5097.

Comment Date: 5 p.m. ET 5/24/23.

Docket Numbers: ER23-1822-000.

Applicants: Appalachian Power Company.

Description: § 205(d) Rate Filing: Amend to Reactive Power Tariff—RS 304 to be effective 7/1/2023.

Filed Date: 5/3/23.

Accession Number: 20230503-5117.

Comment Date: 5 p.m. ET 5/24/23.

Docket Numbers: ER23-1823-000.

Applicants: PJM Interconnection, L.L.C.

Description: § 205(d) Rate Filing: Amendment to WMPA, Service Agreement No. 5588; Queue No. AE2-114 to be effective 7/3/2023.

Filed Date: 5/3/23.

Accession Number: 20230503-5120.

Comment Date: 5 p.m. ET 5/24/23.

Docket Numbers: ER23-1824-000.

Applicants: New York Independent System Operator, Inc.

Description: § 205(d) Rate Filing: NYISO 205 filing of Proposed Tariff Revisions re: Retention and Transfer of CRIS to be effective 7/3/2023.

Filed Date: 5/3/23.

Accession Number: 20230503-5144.

Comment Date: 5 p.m. ET 5/24/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2023.
Kimberly D. Bose,
Secretary.

[FR Doc. 2023-09808 Filed 5-8-23; 8:45 am]

BILLING CODE 6717-01-P